SECURITIES AND EXCHANGE COMMISSION

Sunshine Act Meeting

Federal Register Citation of Previous Announcement 73 FR 67905, November 17, 2008.

Status: Open Meeting.

Place: 100 F Street, NW., Washington, DC.

Date and Time of Previously Announced Meeting: November 19, 2008.

Change in the Meeting: Deletion of an Item.

The following item will not be considered during the Open Meeting on Wednesday, November 19, 2008:

whether to adopt rule amendments that would impose additional requirements on nationally recognized statistical rating organizations in order to address concerns about the integrity of their credit rating procedures and methodologies.

At times, changes in Commission priorities require alterations in the scheduling of meeting items. For further information and to ascertain what, if any, matters have been added, deleted or postponed, please contact the Office of the Secretary at (202) 551-5400.

Dated: November 19, 2008.
Florence E. Harmon,
Acting Secretary.

[FR Doc. E8-27832 Filed 11-20-08; 8:45 am]

BILLING CODE 8011-01-P